COMMITTEE FOR PURCHASE FROM PEOPLE WHO ARE BLIND OR SEVERELY DISABLED

Procurement List; Additions

AGENCY: Committee for Purchase from People Who are Blind or Severely Disabled.

ACTION: Additions to the Procurement List.

SUMMARY: This action adds services to the Procurement List that will be provided by nonprofit agencies employing persons who are blind or have other severe disabilities.

DATES: As of 7/8/2013.

ADDRESSES: Committee for Purchase from People Who are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 4/12/2013 (78 FR 21916), the Committee for Purchase from People Who are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Operation of Supply Support Activity Service, 733d Logistics Readiness Division, Building 1608 and 1610, Patch Road, Joint Base Langley-Eustis, VA

NPA: Skookum Educational Programs, Bremerton, WA

Contracting Activity: Dept of the Air Force, FA4800 633 CONS LGCP, Langley AFB, VA

Service Type/Location: Warehousing Service, Fort Hood II Commissary, Warrior Way Building 85020, Fort Hood, TX

NPA: CW Resources, Inc., New Britain, CT

Contracting Activity: Defense Commissary Agency (DECA), Fort Lee, VA

Barry S. Lineback,
Director, Business Operations.

[FR Doc. 2013-13549 Filed 6-6-13; 8:45 am]

BILLING CODE 6353-01-P